DEPARTMENT OF THE INTERIOR

Bureau of Indian Affairs

Land Acquisitions; Skokomish Indian Tribe, Washington

AGENCY: Bureau of Indian Affairs, Interior.

ACTION: Notice of Final Agency Determination to take land into trust under 25 CFR part 151.

SUMMARY: The Assistant Secretary—Indian Affairs made a final agency determination to acquire approximately 0.94 acres of land into trust for the Skokomish Indian Tribe of Washington on March 14, 2008. This notice is published in the exercise of authority delegated by the Secretary of the Interior to the Assistant Secretary—Indian Affairs by 209 Departmental Manual 8.1.

FOR FURTHER INFORMATION CONTACT: George Skibine, Director, Office of Indian Gaming, MS-3657 MIB, 1849 C Street, NW., Washington, DC 20240; Telephone (202) 219-4066.

SUPPLEMENTARY INFORMATION: This notice is published to comply with the requirement of 25 CFR part 151.12(b) that notice be given to the public of the Secretary's decision to acquire land in trust at least 30 days prior to signatory acceptance of the land into trust. The purpose of the 30-day waiting period in 25 CFR 151.12(b) is to afford interested parties the opportunity to seek judicial review of final administrative decisions to take land in trust for Indian tribes and individual Indians before transfer of title to the property occurs. On March 14, 2008, the Assistant Secretary—Indian Affairs decided to accept approximately 0.94 acres of land into trust for the Skokomish Indian Tribe of Washington under the authority of the Indian Reorganization Act of 1934, 25 U.S.C. 465. The 0.94 acre parcel is located within the exterior boundaries of the Skokomish Indian Tribe in Mason County, Washington. The parcel is currently used for the Tribe's gaming facility. No change in the use is anticipated following conveyance of the parcel to the United States in trust for the Tribe. The property is located adjacent/contiguous to the location of the Lucky Dog Casino and its parking lot, which are already held in trust. The legal description of the property is as follows:

All that portion of the Southeast Quarter (SE¼) of the Southwest Quarter (SW¼) of the Northwest Quarter (NW¼) AND of Indian Lot twenty-three (23), all in Section two (2), township twenty-one (21) North, Range four (4) West, W.M., particularly described as follows:

Beginning at a point 16.20 chains East of the quarter Section post on the West line of said Section two (2), which point is a post 30 feet East of the center of US Highway 101; thence North 2° 15′ East, 175 feet; thence west 235 feet; thence South 2° 15′ West, 175 feet; thence West, 235 feet to the point of beginning.

Excepting therefrom right-of-way for U.S. Highway 101.

Parcel No. 42102 23 00012.

Together with and subject to a perpetual, non-exclusive easement for ingress, egress, drainage and utilities, 20 feet in width, as described in instrument recorded January 30, 1979, Auditor's File No. 356506. Situated in Mason County, Washington. Containing 0.94 acres, more or less.

Dated: March 25, 2008.
Carl J. Artman,
Assistant Secretary—Indian Affairs.

[FR Doc. E8-6878 Filed 4-2-08; 8:45 am]

BILLING CODE 4310-4N-P